DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a proposed subsequent arrangement under the Agreement for Cooperation in the Peaceful Uses of Nuclear Energy between the United States and the European Atomic Energy Community (Euratom).

DATES: This subsequent arrangement will take effect no sooner than April 18, 2017.

FOR FURTHER INFORMATION CONTACT: Mr. Richard Goorevich, Office of Nonproliferation and Arms Control, National Nuclear Security Administration, Department of Energy. Telephone: 202-586-0589 or email: Richard.Goorevich@nnsa.doe.gov.

SUPPLEMENTARY INFORMATION: This subsequent arrangement concerns the change of end use and alteration in form and content of 3.510 kg of U.S.-obligated high enriched uranium (HEU), 3.264 kg of which is in the isotope of U-235 (~93.00 percent enrichment). This material was among the 93.5 kg of HEU, 87.3 kg of which was in the isotope of U-235 (93.35 percent enrichment), which was exported, pursuant to export license XSNM3622, to Compagnie pour l'Etude et la Réalisation de Combustibles Atomiques (CERCA), Romans, France to be manufactured into fuel for the BR2 research and isotope production reactor in Belgium. The remaining HEU that is at CERCA, currently in the form of U-metal (1.410 kg UTot) and UAlx-powder (2.10 kg U UTot), will be fabricated into HEU targets (dispersion UAlx-Al, annular geometry) for commercial production of medical radioisotopes. The targets will be irradiated in BR2 (Belgium), High Flux Reactor (The Netherlands), LVR-15 (Czech Republic) and Maria (Poland) research reactors. The irradiated targets will be transferred to the Institute for Radioelements facility in Belgium where Molybdenum-99 and other isotopes will be extracted.

In accordance with section 131a. of the Atomic Energy Act of 1954, as amended, it has been determined that this subsequent arrangement concerning the change of end use and alternation in form or content of U.S. obligated nuclear material will not be inimical to the common defense and security of the United States of America.

Dated: March 21, 2017.
For the Department of Energy.
David Huizenga,
Acting Deputy Administrator, Defense Nuclear Nonproliferation.

[FR Doc. 2017-06543 Filed 3-31-17; 8:45 am]

BILLING CODE 6450-01-P